DEPARTMENT OF THE INTERIOR

National Park Service

[NPS-WASO-NAGPRA-16415; PPWOCRADN0-PCU00RP14.R50000]

Notice of Inventory Completion: Arizona State Museum, University of Arizona, Tucson, AZ

AGENCY: National Park Service, Interior.

ACTION: Notice.

SUMMARY: The Arizona State Museum, University of Arizona, has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Arizona State Museum, University of Arizona. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Arizona State Museum at the address in this notice by October 10, 2014.

ADDRESSES: John McClelland, NAGPRA Coordinator, P.O. Box 210026, Arizona State Museum, University of Arizona, Tucson, AZ 85721, telephone (520) 626-2950.

SUPPLEMENTARY INFORMATION: Notice is here given in accordance with the Native American Graves Protection and Repatriation Act (NAGPRA), 25 U.S.C. 3003, of the completion of an inventory of human remains and associated funerary objects under the control of the Arizona State Museum, University of Arizona, Tucson, AZ. The human remains and associated funerary objects were removed from Pima County, AZ.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Arizona State Museum (ASM) professional staff in consultation with representatives of the Ak Chin Indian Community of the Maricopa (Ak Chin) Indian Reservation, Arizona; Gila River Indian Community of the Gila River Indian Reservation; Salt River Pima-Maricopa Indian Community of the Salt River Reservation, Arizona; and Tohono O'odham Nation of Arizona.

History and Description of the Remains

In 1975, human remains representing, at minimum, one individual were removed from the Bechtel Burial site, AZ AA:12:98(ASM), in Pima County, AZ. The legally authorized excavation of an inadvertently discovered human burial was conducted by ASM under the direction of Valetta Reid. At the end of excavation, the archeological collection was brought to the museum and assigned an accession number. No known individuals were identified. The 39 associated artifacts are 1 chipped stone core, 17 chipped stone flakes, 1 chipped stone knife, 2 chipped stone scrapers, 1 mineral, 13 stone bifaces, and 4 stone projectile points. The objects in association with this individual have been interpreted by archaeologists as a toolkit for the manufacture of stone projectile points. The projectile points are classified as Sobaipuri or Upper Piman types, suggesting a chronological range of A.D. 1500 to 1800 for this burial.

In 1985, human remains representing, at minimum, one individual were removed from private property at an unnamed site, AZ BB:13:— Ramada, in Tucson, Pima County, AZ. The human remains were inadvertently found by Carl Harshman of the Hook Crane Service at the Ramada Inn while excavating a hole for a palm tree. The human remains and associated artifacts were brought to the museum and assigned an accession number. No known individuals were identified. The 17 associated funerary objects are 1 antler artifact, 1 bone artifact, 3 bone awls, 2 ceramic jars, 7 chipped stone flakes, 2 stone artifacts, and 1 stone projectile point preform. The archeological context of the discovery is unknown, but the artifact assemblage, especially including the ceramic types, suggests that the inhumation is likely from the proto-historical or historical period (A.D. 1450-1750). The assemblage has been interpreted by archeologists as including a flint-knapping toolkit.

Ethnographic accounts of the Upper Piman inhabitants of Southern Arizona record that burials during the historical period were often accompanied by the decedent's personal possessions. These notably included weaponry and toolkits for the manufacture of weaponry in the case of male burials. The term Piman was used by the Spanish to refer to the O'odham people, who are the present-day inhabitants of the region.

In 1949, human remains representing, at minimum, 63 individuals were removed from Sections A and B of the San Agustìn de Tucson Mission site, AZ BB:13:6(ASM), in Tucson, Pima County, AZ. The legally authorized excavations were conducted by the University of Arizona under the direction of Terah L Smiley. The human remains and associated artifacts were collected prior to clay mining activities of the Tucson Pressed Brick Company. At the end of excavations, the archeological collections were brought ASM and assigned accession numbers. No known individuals were identified. The 13 associated funerary objects are 6 lots of glass beads, 2 metal artifacts, 3 metal crucifixes, 1 lot of shell beads, and 1 stone projectile point.

AZ BB:13:6(ASM) is a multicomponent habitation and agricultural site. In the 1690s, Father Eusebio Kino traveled through southern Arizona and reported the presence of a Piman village on the west bank of the Santa Cruz River near Sentinel Peak. He named this village San Cosme de Tucson after Chuk-son, the Piman name for the village. By the early years of the 18th century, a visita was established at San Cosme as an extension of the mission of San Xavier del Bac, located a few miles to the south. Priests from San Xavier would come to the visita occasionally to conduct baptisms and other rites for the village inhabitants. Beginning in the early 1770's construction began on more permanent facilities. The mission complex, renamed San Agustìn, eventually included a chapel, a two-story convent building, an orchard, a granary, and a cemetery for the Native American population. The mission was in use until the middle of the 19th century. Historical records indicate that Sections A and B of the cemetery were used for the interment of baptized Native Americans who were the inhabitants of the O'odham village. The O'odham people today are comprised of the Ak Chin Indian Community of the Maricopa (Ak Chin) Indian Reservation, Arizona; Gila River Indian Community of the Gila River Indian Reservation; Salt River Pima-Maricopa Indian Community of the Salt River Reservation, Arizona; and Tohono O'odham Nation of Arizona.

Determinations Made by the Arizona State Museum

Officials of the ASM have determined that:

• Pursuant to 25 U.S.C. 3001(9), the human remains described in this notice represent the physical remains of 65 individuals of Native American ancestry.

• Pursuant to 25 U.S.C. 3001(3)(A), the 69 objects described in this notice are reasonably believed to have been placed with or near individual human remains at the time of death or later as part of the death rite or ceremony.

• Pursuant to 25 U.S.C. 3001(2), there is a relationship of shared group identity that can be reasonably traced between the Native American human remains and associated funerary objects and Ak Chin Indian Community of the Maricopa (Ak Chin) Indian Reservation, Arizona; Gila River Indian Community of the Gila River Indian Reservation; Salt River Pima-Maricopa Indian Community of the Salt River Reservation, Arizona; and Tohono O'odham Nation of Arizona.

Additional Requestors and Disposition

Lineal descendants or representatives of any Indian tribe or Native Hawaiian organization not identified in this notice that wish to request transfer of control of these human remains and associated funerary objects should submit a written request with information in support of the request to John McClelland, NAGPRA Coordinator, P.O. Box 210026, Arizona State Museum, University of Arizona, Tucson, AZ 85721, telephone (520) 626-2950, by October 10, 2014. After that date, if no additional requestors have come forward, transfer of control of the human remains and associated funerary objects to Ak Chin Indian Community of the Maricopa (Ak Chin) Indian Reservation, Arizona; Gila River Indian Community of the Gila River Indian Reservation; Salt River Pima-Maricopa Indian Community of the Salt River Reservation, Arizona; and Tohono O'odham Nation of Arizona may proceed.

The ASM is responsible for notifying the Ak Chin Indian Community of the Maricopa (Ak Chin) Indian Reservation, Arizona; Gila River Indian Community of the Gila River Indian Reservation; Salt River Pima-Maricopa Indian Community of the Salt River Reservation, Arizona; and Tohono O'odham Nation of Arizona that this notice has been published.

Dated: August 1, 2014.
Melanie O'Brien,
Acting Manager, National NAGPRA Program.

[FR Doc. 2014-21469 Filed 9-9-14; 8:45 am]

BILLING CODE 4312-50-P